DEPARTMENT OF TRANSPORTATION

Federal Aviation Administration

Airworthiness Criteria: Airship Design Criteria for Zeppelin Luftschifftechnik GmbH Model LZ N07 Airship

AGENCY: Federal Aviation Administration (FAA), DOT.

ACTION: Notice of availability of proposed design criteria and request for comments; reopening of comment period.

SUMMARY: This action reopens the comment period stated in the notice of availability of proposed design criteria and request for comments for the airworthiness criteria on the airship design criteria for the Zeppelin Luftschifftechnik GmbH Model LZ N07 Airship. The notice was issued on April 10, 2007 and published on May 3, 2007 (72 FR 24656). In that document, the FAA announced the availability and request for comments on a design criteria for the airship.

DATES: Comments must be received on or before August 15, 2007.

ADDRESSES: Send all comments on the proposed design criteria to: Federal Aviation Administration, Attention: Mr. Karl Schletzbaum, Project Support Office, ACE-112, 901 Locust, Kansas City, Missouri 64106. Comments may be inspected at the above address between 7:30 a.m. and 4 p.m. weekdays, except Federal holidays.

FOR FURTHER INFORMATION CONTACT: Mr. Karl Schletzbaum, 816-329-4146.

SUPPLEMENTARY INFORMATION:

Comments Invited

Interested persons are invited to comment on the proposed design criteria by submitting such written data, views, or arguments as they may desire. Commenters should identify the proposed design criteria on the Zeppelin Luftschifftechnik GmbH model LZ N07 airship and submit comments, in duplicate, to the address specified above. All communications received on or before the closing date for comments will be considered by the Small Airplane Directorate before issuing the final design criteria.

A paper copy of the proposed design criteria may be obtained by contacting the person named above under the caption FOR FURTHER INFORMATION CONTACT.

Discussion

Background

On April 10, 2007, the Federal Aviation Administration (FAA) issued a notice of availability of proposed design criteria. The notice was published for public comment on May 3, 2007 (72 FR 24656). Comments to that document were due by June 4, 2007. By verbal request, an entity involved in the airship design industry asked the FAA to extend the comment period for the proposed design criteria.

We appreciate the petitioner's substantive interest in the proposed design standards and believe that granting additional time to review the document will allow them to thoroughly assess the impact of the design criteria and provide meaningful comments. Therefore, we will reopen the comment period until August 15, 2007.

Reopening of Comment Period

For the reasons provided in this notice, we believe that good cause exists for reopening the comment period for the proposed design criteria until August 15, 2007. Absent unusual circumstances, the FAA does not anticipated any further extension of the comment period for the design criteria.

Issued in Kansas City, Missouri, on July 7, 2007.
Sandra J. Campbell,
Acting Manager, Small Airplane Directorate, Aircraft Certification Service.

[FR Doc. E7-13707 Filed 7-13-07; 8:45 am]

BILLING CODE 4910-13-P